DEPARTMENT OF AGRICULTURE

Forest Service

Notice of New Fee Site; Federal Lands Recreation Enhancement Act (Title VIII, Pub. L. 108-447)

AGENCY: Chattahoochee-Oconee National Forests, USDA Forest Service.

ACTION: Notice of New Fee Site.

SUMMARY: The Chattahoochee-Oconee National Forests is planning to charge a $5 per site per night fee for overnight camping at Hickey Gap Campground. The fees listed are only proposed and will be determined upon further analysis and public comment. This campground has five campsites and has been available for camping use prior to this date. Campgrounds on the Chattahoochee-Oconee National Forests have shown that people appreciate and enjoy the availability of outdoor camping facilities. Funds from the campground will be used for the continued operation and maintenance of Hickey Gap Campground.

DATES: Hickey Gap Campground will start charging fees in March, 2009.

ADDRESSES: Forest Supervisor, Chattahoochee-Oconee National Forests, 1755 Cleveland Highway, Gainesville, GA 30501.

FOR FURTHER INFORMATION CONTACT: Karen McKenzie, Public Affairs Officer, 770-297-3061.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

The Chattahoochee-Oconee National Forests currently has thirty-five other campgrounds. These campgrounds have a total of 675 campsites; 23 campgrounds are operated by concessionaires. A business analysis of Hickey Gap Campground has shown that people desire having this sort of recreation experience on the Chattahoochee-Oconee National Forests. A market analysis indicates that the $5 per site per night fee is both reasonable and acceptable for this sort of unique recreation experience.

Dated: October 6, 2008.
Paul L. Bradley,
Acting Forest Supervisor, Chattahoochee-Oconee National Forests.

[FR Doc. E8-24131 Filed 10-9-08; 8:45 am]

BILLING CODE 3410-11-M